ENVIRONMENTAL PROTECTION AGENCY

40 CFR Part 62

[EPA-R05-OAR-2007-0952; FRL-8707-5]

Approval and Promulgation of Revised Municipal Waste Combustor State Plan for Designated Facilities and Pollutants: Indiana; Withdrawal of Direct Final Rule

AGENCY: Environmental Protection Agency (EPA).

ACTION: Withdrawal of direct final rule.

SUMMARY: EPA is withdrawing the July 8, 2008 (73 FR 38925), direct final rule revisions to Indiana's State Plan to control air pollutants from large Municipal Waste Combustors (MWC). The Indiana Department of Environmental Management (IDEM) submitted the State Plan on August 24, 2007.

In the direct final rule, EPA stated that if adverse comments were submitted by August 7, 2008, the rule would be withdrawn and not take effect. On July 29, 2008, IDEM submitted a comment to EPA. EPA believes this comment is adverse and, therefore, EPA is withdrawing the direct final rule. Specifically, IDEM commented that, in the table for particulate matter, there was a typographical error in identifying the appropriate footnotes for the emission limitations. In addition, IDEM stated that it had recently submitted an agency correction for publication in the Indiana Register to correct the footnotes for mercury and sulfur dioxide in the emission limitations table, and requested that these corrections be part of the final federal approval. EPA will address the comment in a subsequent final action based upon the proposed action also published on July 8, 2008 (73 FR 38954). EPA will not institute a second comment period on this action.

DATES: The direct final rule published at 73 FR 38925 on July 8, 2008, is withdrawn as of August 21, 2008.

FOR FURTHER INFORMATION CONTACT: Margaret Sieffert, Environmental Engineer, Environmental Protection Agency, Region 5, 77 West Jackson Boulevard (AT-18J), Chicago, Illinois 60604, (312) 353-1151, sieffert.margaret@epa.gov.

List of Subjects in 40 CFR Part 62

Environmental protection, Air pollution control, Administrative practice and procedure, Intergovernmental relations, Municipal waste combustors, Reporting and recordkeeping requirements.

Dated: August 12, 2008.
Walter W. Kovalick Jr.,
Acting Regional Administrator, Region 5.

Accordingly, the amendments to 40 CFR 62.3650, 62.3651, and 62.3652 to subpart P which published in the Federal Register on July 8, 2008 (73 FR 38925) on page 38928, and which were to become effective on September 8, 2008, are withdrawn as of August 21, 2008.

[FR Doc. E8-19416 Filed 8-20-08; 8:45 am]

BILLING CODE 6560-50-P